DEPARTMENT OF HOMELAND SECURITY

Office of the Secretary

[Docket No. DHS-2016-0079]

Privacy Act of 1974; Computer Matching Program

AGENCY: U.S. Citizenship and Immigration Services, Department of Homeland Security.

ACTION: Notice of Recertification.

SUMMARY: This document provides notice of the existence of a computer matching program between the Department of Homeland Security, U.S. Citizenship and Immigration Services and the California Department of Health Care Services, titled “Verification Division DHS-USCIS/CA-DHCS.”

SUPPLEMENTARY INFORMATION: The Department of Homeland Security, U.S. Citizenship and Immigration Services provides this notice in accordance with the Privacy Act of 1974 (5 U.S.C. 552a), as amended by the Computer Matching and Privacy Protection Act of 1988 (Pub. L. 100-503) and the Computer Matching and Privacy Protection Amendments of 1990 (Pub. L. 101-508) (Privacy Act); Office of Management and Budget (OMB) Final Guidance Interpreting the Provisions of Public Law 100-503, the Computer Matching and Privacy Protection Act of 1988, 54 FR 25818 (June 19, 1989); and appendix I to OMB's Revision of Circular No. A-130 (November 28, 2000), “Transmittal Memorandum No. 4, Management of Federal Information Resources.”

Participating Agencies: The Department of Homeland Security, U.S. Citizenship and Immigration Services (DHS-USCIS) is the source agency and the California Department of Health Care Services (CA-DHCS) is the recipient agency.

Purpose of the Match: This Computer Matching Agreement allows DHS-USCIS to provide CA-DHCS with electronic access to immigration status information contained within the DHS-USCIS Systematic Alien Verification for Entitlements (SAVE). The immigration status information will enable CA-DHCS to determine whether an applicant is eligible for benefits under Medicaid Programs administered by CA-DHCS.

Authority for Conducting the Matching Program: Section 121 of the Immigration Reform and Control Act (IRCA) of 1986, Public Law 99-603, as amended by the Personal Responsibility and Work Opportunity Reconciliation Act of 1996 (PRWORA), Public Law 104-193, 110 Stat. 2168 (1996), requires DHS to establish a system for the verification of immigration status of alien applicants for, or recipients of, certain types of benefits as specified within IRCA, and to make this system available to state agencies that administer such benefits. Section 121(c) of IRCA amends section 1137 of the Social Security Act and certain other sections of law that pertain to federal entitlement benefit programs. Section 121(c) requires state agencies administering these programs to use DHS-USCIS's verification system to make eligibility determinations in order to prevent the issuance of benefits to ineligible alien applicants. The SAVE Program is the DHS-USCIS system available to the CA-DHCS and other covered agencies for use in making these eligibility determinations.

The Illegal Immigration Reform and Immigrant Responsibility Act of 1996 (IIRIRA), Public Law 104-208, 110 Stat. 3009 (1996) grants Federal, State, or local government agencies seeking to verify or ascertain the citizenship or immigration status of any individual within the jurisdiction of the agency with the authority to request such information from DHS-USCIS for any purpose authorized by law.

California Department of Health Care Services will access information contained in the SAVE Program for the purpose of confirming the immigration status of alien applicants for, or recipients of, benefits it administers to discharge its obligation to conduct such verifications pursuant to sec. 1137 of the Social Security Act (42 U.S.C. 1320b-7(a) et seq.) and California Welfare and Institution Code secs. 11104.1, 14007.5 and 14011.2.

Categories of Records and Individuals Covered: The SAVE Program uses the DHS-USCIS Verification Information System (VIS) database to verify immigration status; it contains information related to the status of aliens, naturalized citizens, and to the extent they have applied for Certificates of Citizenship, derived U.S. citizens, on whom DHS-USCIS has a record as an applicant, petitioner, sponsor, or beneficiary. See DHS/USCIS-004 Systematic Alien Verification for Entitlements (SAVE) Systems of Records Notice, 77 FR 47415 (August 8, 2012).

California Department of Health Care Services records pertaining to noncitizen Benefit Applicants for, or recipients of, Medicaid benefits administered by CA-DHCS. CA-DHCS will match the following records with DHS-USCIS records:

• Alien Registration Number

• I-94 Number

• Last Name

• First Name

• Middle Name

• Date of Birth

• Nationality

• Social Security number (SSN)

DHS-USCIS will match the following records with CA-DHCS records:

• Alien Registration Number

• Last Name

• First Name

• Middle Name

• Date of Birth

• Country of Birth (not nationality)

• SSN (if available)

• Date of Entry

• Immigration Status Data

• Sponsorship Information (sponsor's full name, SSN, and address)

System of Records: DHS/USCIS-004 Systematic Alien Verification for Entitlements Program System of Records Notice, 77 FR 47415 (August 8, 2012).

Inclusive Dates of the Matching Program: The inclusive dates of the matching program are from December 8, 2016, and continuing for 18 months through June 7, 2018. The matching program may be extended for up to an additional 12 months thereafter, if certain conditions are met.

Address for Receipt of Public Comments or Inquires: Individuals wishing to comment on this matching program or obtain additional information about the program, including requesting a copy of the Computer Matching Agreement between DHS-USCIS and CA-DHCS, may contact:

For general questions please contact: Donald K. Hawkins, 202-272-8030, Privacy Officer, U.S. Citizenship and Immigration Services, Department of Homeland Security, 20 Massachusetts Avenue NW., Washington, DC 20529.

For privacy questions please contact: Jonathan R. Cantor 202-343-1717, Acting Chief Privacy Officer, Privacy Office, Department of Homeland Security, Washington, DC 20528.

Dated: November 1, 2016.
Jonathan R. Cantor,
Acting Chief Privacy Officer, Department of Homeland Security.

[FR Doc. 2016-27144 Filed 11-10-16; 8:45 am]

BILLING CODE 9110-9L-P